DEPARTMENT OF AGRICULTURE

Natural Resources Conservation Service

Notice of Proposed Changes to Section IV of the Field Office Technical Guide (FOTG) of the Natural Resources Conservation Service in Georgia

AGENCY: Natural Resources Conservation Service (NRCS) in Georgia, U.S. Department of Agriculture.

ACTION: Notice of availability of proposed changes in Section IV of the FOTG of the NRCS in Georgia for review and comment.

SUMMARY: It is the intention of NRCS in Georgia to issue new and revised conservation practice standards in Section IV of the FOTG. The revised standards are Tree/Shrub Establishment (612) and Forest Site Preparation (490). The new standard is Tree/Shrub Pruning (660).

DATES: Comments will be received until March 8, 2002.

FOR FURTHER INFORMATION CONTACT: Address all requests and comments to Leonard Jordan, State Conservationist, Natural Resources Conservation Service (NRCS); Stephens Federal Building, MS 200; 355 East Hancock Ave., Athens, Georgia 30601. Copies of these standards will be made available upon written request. You may submit your electronic requests and comments to Josh.Wheat@ga.usda.gov.

SUPPLEMENTARY INFORMATION: Section 343 of the Federal Agriculture Improvement and Reform Act of 1996 states that after enactment of the law, revisions made to NRCS state technical guides used to carry out highly erodible land and wetland provisions of the law, shall be made available for public review and comment. For the next 30 days, the NRCS in Georgia will receive comments relative to the proposed changes. Following that period, a determination will be made by the NRCS in Georgia regarding disposition of these comments and a final determination of changes will be made.

Dated: January 22, 2002.
Richard Oliver,
Assistant State Conservationist, Athens, GA.

[FR Doc. 02-2859 Filed 2-5-02; 8:45 am]

BILLING CODE 3410-16-P